DEPARTMENT OF DEFENSE

Office of the Secretary

[No. DOD-2007-OS-0003]

Proposed Collection; Comment Request

AGENCY: Office of the Under Secretary of Defense (Personnel and Readiness), DoD.

ACTION: Notice.

SUMMARY: In compliance with section 3506(c)(2)(A) of the Paperwork Reduction Act of 1995, the Office of the Under Secretary of Defense (Personnel and Readiness) announces a proposed extension of a previously approved public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 27, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), ODUSD (PI)/Defense Human Resources Activity, ATTN: Ms. Heidi Boyd, 4040 Fairfax Boulevard, Suite 200, Arlington, VA 22201, or call (703) 696-1074.

Title and OMB Control Number: Application for Department of Defense Common Access Card—DEERS Enrollment, DD Form 1172-2, OMB Number 0704-0415.

Needs and Uses: This information collection requirement is needed to obtain the necessary data to establish a record in the Defense Enrollment Eligibility Reporting System (DEERS) for individuals not pre-enrolled in the DEERS, and to maintain a centralized database of individuals eligible for a DoD identification card. This information is used to establish eligibility for the DoD Common Access Card (CAC) for individuals that are either employed by or associated with the Department of Defense. The information also provides a source of data for demographic reports.

Affected Public: Individuals or households.

Annual Burden Hours: 300,000.

Number of Respondents: 500,000.

Responses per Respondent: 1.

Average Burden per Response: 15 minutes.

Frequency: On occasion.

Summary of Information Collected: The DD Form 1172-2, Application for Department of Defense Common Access Card—DEERS Enrollment, the form associated with this information collection, is used to collect relevant data (e.g., name, identifying information, employment status, citizenship) from the respondent. The data collected establish eligibility for the appropriate DoD Common Access Card for those individuals not pre-enrolled in the Defense Enrollment Eligibility Reporting System (DEERS).

The Homeland Security Presidential Directive—12 (HSPD-12), dated August 27, 2004, directed the promulgation of a Federal standard for secure and reliable forms of identification for Federal Employees and contractors that will be interoperable among the Federal departments and agencies. The Department of Defense is in the process of adjusting the Common Access Card (CAC) program so that it meets the requirements of HSPD-12.

HSPD-12 mandates smart card technology and supports the use of Public Key Infrastructure (PKI) to make access control decisions for both logical access to computer systems and physical access to federal facilities. PKI is a key and certificate management infrastructure designed to support confidentiality, integrity, availability, authorization, and access control for both computer networks and physical access. Public Law 106-65, Section 373, codified at 10 United States Code annotated, “other provisions,” directs the Department to develop and implement a Smart Card program. The Deputy Secretary of Defense memorandum, dated November 10, 1999, “Smart Card Adoption and Implementation,” directs the implementation of smart card technology as a Department-wide Common Access Card (CAC) that shall be: The standard ID card for active duty military personnel (to include the Selected Reserve); DoD civilian employees, eligible contractor personnel and other eligible personnel; the principal card used to enable physical access to buildings and controlled spaces; and will be used to gain access to the Department's computer networks and systems. The Deputy Secretary directs the CAC shall be issued and maintained using the infrastructure provided by the Defense Enrollment Eligibility Reporting System and the Real-time Automated Personnel Identification System (RAPIDS).

Individuals included in this information collection are eligible contractor employees, eligible, foreign national personnel and other eligible individuals outside of the DoD. Personnel included in this information collection are considered to be eligible for a CAC if they require logical access to DoD computer systems, are eligible for DoD benefits and entitlements, require physical access to multiple DoD facilities or require access to multiple Federal agencies in compliance with the Homeland Security Presidential Directive—12 (HSPD-12).

Dated: January 18, 2007.
Patricia L. Toppings,
Alternate OSD Federal Register, Liaison Officer, Department of Defense.

[FR Doc. 07-332 Filed 1-25-07; 8:45 am]

BILLING CODE 5001-06-M